DEPARTMENT OF HOMELAND SECURITY

Federal Emergency Management Agency

44 CFR Part 67

Final Flood Elevation Determinations

AGENCY: Federal Emergency Management Agency (FEMA), Department of Homeland Security, Mitigation Division.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

EFFECTIVE DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Section, Mitigation Division, 500 C Street SW., Washington, DC 20472, (202) 646-3151.

SUPPLEMENTARY INFORMATION: FEMA makes the final determinations listed below for the modified BFEs for each community listed. These modified elevations have been published in newspapers of local circulation and ninety (90) days have elapsed since that publication. The Mitigation Division Director has resolved any appeals resulting from this notification.

This final rule is issued in accordance with Section 110 of the Flood Disaster Protection Act of 1973, 42 U.S.C. 4104, and 44 CFR Part 67.

The Agency has developed criteria for floodplain management in floodprone areas in accordance with 44 CFR Part 60.

Interested lessees and owners of real property are encouraged to review the proof Flood Insurance Study and FIRM available at the address cited below for each community. The BFEs and modified BFEs are made final in the communities listed below. Elevations at selected locations in each community are shown.

National Environmental Policy Act. This rule is categorically excluded from the requirements of 44 CFR Part 10, Environmental Consideration. No environmental impact assessment has been prepared.

Regulatory Flexibility Act. As flood elevation determinations are not within the scope of the Regulatory Flexibility Act, 5 U.S.C. 601-612, a regulatory flexibility analysis is not required.

Regulatory Classification. This final rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, flood insurance, reporting and recordkeeping requirements.

Accordingly, 44 CFR Part 67 is amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | #Depth in feet above ground. *Elevation in feet (NGVD) +Elevation in feet (NAVD) Modified
City of Omaha, Douglas County, Nebraska
Docket No.: FEMA-P7915
NE | City of Omaha | Candlewood Lake | Entire Shoreline | +1,096
# Depth in feet above ground.
National Geodetic Vertical Datum.
North American Vertical Datum.
ADDRESSES
City of Omaha, Douglas County, Nebraska
Maps are available for inspection at City, 1819 Farnam Street, Omaha, Nebraska 68183.
City of Lufkin, Angelina County, Texas
Docket No.: FEMA-P-7699
TX | City of Lufkin | Biloxi Creek North Tributary | Approximately 2,860 feet downstream of State Highway 287 | +306
|  |  | Approximately 210 feet upstream of State Highway 287 | +329
TX | City of Lufkin | Biloxi Creek South Tributary | Approximately 640 feet downstream of Lemans Drive | +303
|  |  | Approximately 1,660 feet upstream of Lemans Drive | +319
TX | City of Lufkin | Cedar Creek | At Gobblers Knob Road | +238
|  |  | Approximately 100 feet upstream of Union Pacific Railroad | +299
TX | City of Lufkin | Cedar Creek North Tributary | At confluence with Cedar Creek | +276
|  |  | Approximately 50 feet upstream of Lotus Lane | +286
TX | City of Lufkin | Cedar Creek South Tributary | At confluence with Cedar Creek | +287
|  |  | Approximately 1,350 feet upstream of Berry Road | +253
TX | City of Lufkin | Cedar Creek Tributary 3 | At confluence with Cedar Creek | +266
|  |  | Approximately 80 feet upstream of Live Oak Lane | +240
TX | City of Lufkin | One Eye Creek | Approximately 2,120 feet downstream of Bartmess Drive | +309
|  |  | Approximately 3,900 feet upstream of Bartmess Drive | +289
TX | City of Lufkin | Shirley Creek | Approximately 7,350 feet upstream of the confluence with Paper Mill Creek | +232
|  |  | Approximately 50 feet upstream of Trenton Street | +297
TX | City of Lufkin | Shirley Creek Tributary 2 | At the confluence with Shirley Creek | +260
|  |  | Approximately 1,600 feet upstream of State Highway 287 | +310
TX | City of Lufkin | Shirley Creek Tributary 2 East Branch | At confluence with Shirley Creek Tributary 2 | +277
|  |  | Approximately 970 feet upstream of Freeman Street | +297
# Depth in feet above ground.
National Geodetic Vertical Datum.
North American Vertical Datum.
ADDRESSES
City of Lufkin, Angelina County, Texas
Maps are available for inspection at City Hall, 300 Shepherd Street, Lufkin, Texas 75902.

(Catalog of Federal Domestic Assistance No. 83.100, “Flood Insurance.”)

Dated: October 18, 2006.
David I. Maurstad,
Director, Mitigation Division, Federal Emergency Management Agency, Department of Homeland Security.

[FR Doc. E6-18307 Filed 10-31-06; 8:45 am]

BILLING CODE 9110-12-P